DEPARTMENT OF THE INTERIOR

National Park Service

Minor Boundary Revision at Saratoga National Historical Park

AGENCY: National Park Service, Interior.

ACTION: Announcement of park boundary revision.

SUMMARY: Notice is hereby given that the boundary of Saratoga National Historical Park is revised to include Tract No. 01-127 within the boundaries of the park, as depicted on map number 374/80,000 prepared by the National Park Service in November 2003.

FOR FURTHER INFORMATION CONTACT: Rachel McManus, National Park Service Land Acquisition Officer, 978-458-7653.

SUPPLEMENTARY INFORMATION: Section 7(c) of the Land and Water Conservation Fund Act of 1965, as amended, 16 U.S.C. 4601-9(c), authorizes the Secretary of the Interior to make minor boundary revisions and acquire by donation lands or interests therein adjacent to an area of the National Park System that will contribute to, and are necessary for, the proper preservation, protection, interpretation, or management of such an area. With regard to areas of the National Park System within the Northeast Region, this authority has been delegated to the Regional Director. A determination has been made that: (1) It is necessary to include a 1.29-acre parcel of land owned by Prospect Hill Cemetery Association in the Village of Victory, Saratoga County, New York, referred to as Tract No. 01-127 and adjacent to federally owned Tract No. 01-123, within the boundary of Saratoga National Historical Park by donation of interests therein to the United States of America for the proper preservation, protection, interpretation and management of the Park; and (2) the conditions contained in 16 U.S.C. 460l-9(c)(2) have been met. As required by 16 U.S.C. 460l-9(c)(1), written notice has been provided to the Committee on Resources of the House of Representatives and to the Committee on Energy and Natural Resources of the Senate.

The location map and other supporting documentation are available for inspection at the National Park Service, Northeast Region, Realty Division, New England Office, 222 Merrimack Street, Suite 400E, Lowell, MA 01852.

Dated: December 11, 2003.
Marie Rust,
Regional Director, Northeast Region.

Note: This document was received at the Office of the Federal Register on July 29, 2004.

BILLING CODE 4312-52-P

[FR Doc. 04-17579 Filed 8-2-04; 8:45 am]

BILLING CODE 4312-52-C